FEDERAL DEPOSIT INSURANCE CORPORATION

Resolution of a Systemically Important Financial Institution: The Single Point of Entry Strategy

AGENCY: Federal Deposit Insurance Corporation (FDIC).

ACTION: Notice; extension of comment period.

SUMMARY: On December 18, 2013, the FDIC published in the Federal Register for public comment the Resolution of Systemically Important Financial Institutions: The Single Point of Entry Strategy (the “SPOE Strategy”). To allow the public more time to consider the SPOE Strategy and the issues and questions posed for comment, the FDIC has determined that an extension of the comment period for an additional 30-day period to March 20, 2014, is appropriate. This action will allow interested persons additional time to analyze the SPOE Strategy and prepare their comments.

DATES: Comments must be received on or before March 20, 2014.

ADDRESSES: You may submit comments by any of the following methods:

• Agency Web site: http://www.fdic.gov/regulations/laws/federal. Follow the instructions for submitting comments on the Agency Web site.

• Email: Comments@FDIC.gov. Include “Single Point of Entry Strategy” in the subject line of the message.

• Mail: Robert E. Feldman, Executive Secretary, Attention: Comments, Federal Deposit Insurance Corporation, 550 17th Street NW., Washington, DC 20429

• Hand Delivery/Courier: Guard station at the rear of the 550 17th Street Building (located on F Street) on business days between 7 a.m. and 5 p.m. (EST).

• Federal eRulemaking Portal: http://www.regulations.gov. Follow the instructions for submitting comments.

Public Inspection: All comments received will be posted without change to http://www.fdic.gov/regulations/laws/federal including any personal information provided. Comments may be inspected and photocopied in the FDIC Public Information Center, 3501 North Fairfax Drive, Room E-1002, Arlington, VA 22226, between 9 a.m. and 5 p.m. (EST) on business days. Paper copies of public comments may be ordered from the Public Information Center by telephone at (877) 275-3342 or (703) 562-2200.

FOR FURTHER INFORMATION CONTACT: FDIC: Office of Complex Financial Institutions: Herbert Held, Associate Director, Systemic Resolutions & Policy Implementation Group, Resolution Strategy & Implementation Branch (202) 898-7329; Rose Kushmeider, Acting Assistant Director, Systemic Resolutions & Policy Implementation Group, Policy Section (202) 898-3861; Legal Division: R. Penfield Starke, Assistant General Counsel, Receivership Section, Legal Division (703) 562-2422; Elizabeth Falloon, Supervisory Counsel, Receivership Policy Unit, Legal Division (703) 562-6148.

SUPPLEMENTARY INFORMATION: The Resolution of Systemically Important Financial Institutions: The Single Point of Entry Strategy (the “SPOE Strategy”) was published in the Federal Register, 78 FR 76614 (December 18, 2013). The FDIC developed the SPOE Strategy to implement its authority under Title II of the Dodd-Frank Wall Street Reform and Consumer Protection Act. The FDIC sought comment on all aspects of the SPOE Strategy and requested that commenters respond to numerous questions. The proposed publication stated that the public comment period would close after 60 days, on February 18, 2014.

The FDIC has received requests from the public for an extension of the comment period. The FDIC believes that the additional time will facilitate public comment on the SPOE Strategy and the questions posed by the FDIC. Therefore, the FDIC is extending the comment period to March 20, 2014.

Dated at Washington, DC, this 18th day of February, 2014.
Federal Deposit Insurance Corporation.
Robert E. Feldman,
Executive Secretary.

[FR Doc. 2014-03692 Filed 2-20-14; 8:45 am]

BILLING CODE 6741-01-P